DEPARTMENT OF LABOR

Employment and Training Administration

[NAFTA-04405]

VF Imagewear East (Formerly VF Knitwear) Martinsville, VA, Including an Employee of VF Imagewear East (Formerly VF Knitwear), Martinsvile, VA, Located in Park Ridge, IL; Amended Certification Regarding Eligibility to Apply for NAFTA-Transitional Adjustment Assistance

In accordance with section 250(A), Subchapter D, Chapter 2, Title II, of the Trade Act of 1974 (19 U.S.C. 2273), the Department of Labor issued a Certification for NAFTA Transitional Adjustment Assistance on April 17, 2001, applicable to workers of VF Imagewear East (formerly VF Knitwear), Martinsville, Virginia. The notice published in the Federal Register on May 3, 2001 (66 FR 22263).

At the request of the State agency, the Department reviewed the certification for workers of the subject firm. New information shows that a worker separation occurred involving an employee of the Martinsville, Virginia facility of VF Imagewear East, (formerly VF Knitwear), located in Park Ridge, Illinois. This employee was engaged in employment related to the production of fleece apparel, including jerseys and T-shirts at the Martinsville, Virginia location of the subject firm.

Based on these findings, the Department is amending this certification to include an employee of VF Imagewear East, (formerly VF Knitwear), Martinsville, Virginia facility, located in Park Ridge, Illinois

The intent of the Department's certification is to include all workers of VF Imagewear East (formerly VF Knitwear) adversely affected by an increase of company of imports from Mexico.

The amended notice applicable to NAFTA-04405 is hereby issued as follows:

All workers of VF Imagewear East, (formerly VF Knitwear), Martinsville, Virginia, including a worker of the Martinsville, Virginia facility, location in Park Ridge, Illinois, who became totally or partially separated from employment on or after December 13, 1999, through April 17, 2003, are eligible for NAFTA-TAA under Section 250 of the Trade Act of 1974.

Signed at Washington, DC this 2nd day of October, 2001.
Linda G. Poole,
Certifying Officer, Division of Trade Adjustment Assistance.

[FR Doc. 01-26042 Filed 10-16-01; 8:45 am]

BILLING CODE 4310-30-M